NATIONAL SCIENCE FOUNDATION

Notice of Permit Applications Received Under the Antarctic Conservation Act of 1978 (P.L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by ??? This application may be inspected by interested parties at the Permit Office, address below.

ADDRESS: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant Donal T. Manahan, Permit Application No. 2005-007

Department of Biological Sciences, University of Southern California, Los Angeles, CA 90089-0371.

Activity for Which Permit Is Requested

Introduce Non-indigenous species, and import into the United States. The applicant plans to import bacterial cultures of E. coli, which are components of several molecular biology DNA cloning kits, to be used in experiments conducted by a biology class at the McMurdo Station Crary Lab. All E. coli cultures will be sterilized by autoclaving at the end of each season.

In addition, the applicant also plans to import several unicellular algae species (Dunaliella tertiolecta, Rhodomonal sp., and Isochrysis galbana), which are required as food for Antarctic larval forms that will be cultured in the aquarium at McMurdo Station. The algal cultures will be used to start a culture collection of algae needed for experiments starting in August 2004. All algae and seawater that might contain algae will be autoclaved, ozone treated, or otherwise chemically treated to kill the remaining algal cells after use.

Location

Crary Science and Engineering Center, McMurdo Station, Antarctica.

Dates

August 16, 2004 to February 15, 2005.

Nadene G. Kennedy,
Permit Officer, Office of Polar Programs.

[FR Doc. 04-13474 Filed 6-14-04; 8:45 am]

BILLING CODE 7555-01-M